MORRIS K. UDALL AND STEWART L. UDALL FOUNDATION

Sunshine Act Meetings

TIME AND DATE: 9:00 a.m. to 2:45 p.m. (MST-AZ), Tuesday, May 6, 2025.

PLACE: Morris K. Udall and Stewart L. Udall Foundation, 434 E University Blvd., Suite 300, Tucson, AZ 85705.

STATUS: Parts of this regular meeting of the Board of Trustees will be open to the public. The rest of the meeting will be closed to the public. Members of the public who would like to observe the public session of this meeting may request remote access by contacting Sara Moeller at moeller@udall.gov prior to May 6, 2025, to obtain the teleconference connection information.

MATTERS TO BE CONSIDERED: (1) Call to Order and Chair's Remarks; (2) Trustees' Remarks; (3) Executive Director's Remarks; (4) Consent Agenda Approval (Minutes of the October 30, 2024, Board of Trustees Meeting; Board Reports submitted for Data and Information Technology, Education Programs, Finance and Internal Controls, John S. McCain III National Center for Environmental Conflict Resolution, and Udall Center for Studies in Public Policy, including the Native Nations Institute for Leadership, Management, and Policy and Special Collections at the University of Arizona Libraries; and Board takes notice of any new and updated personnel policies and internal control methodologies); (5) Vote on Proposed Executive Session (discuss internal personnel rules and practices of the agency, and disclose information of a personal nature where disclosure would constitute a clearly unwarranted invasion of personal privacy); (6) Board Operating Procedures Revisions (including a vote on a resolution regarding Amendment of Operating Procedures of the Board of Trustees of the Morris K. Udall and Stewart L. Udall Foundation; (7) Program Eligibility (including a vote on a resolution regarding Eligibility Criteria for Udall Foundation Program Delivery); (8) Annual Trustee Ethics Training; and (9) Executive Session.

PORTIONS OPEN TO THE PUBLIC: All agenda items except as noted below.

PORTIONS CLOSED TO THE PUBLIC: Executive Session.

CONTACT PERSON FOR MORE INFORMATION: Sara Moeller, Chief Operating Officer, 434 E University Blvd., Suite 300, Tucson, AZ 85705, (520) 345-3562.

Dated: April 17, 2025.
David P. Brown,
Executive Director, Morris K. Udall and Stewart L. Udall Foundation.

[FR Doc. 2025-06918 Filed 4-18-25; 11:15 am]

BILLING CODE 6820-FN-P